COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: February 04, 2024.

ADDRESSES: Committee for Purchase From People Who Are Blind or Severely Disabled, 355 E Street, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

4730-00-470-6625—Kit, Brass Fittings, 88 Automotive Types, 430 Pieces

Designated Source of Supply: The Opportunity Center Easter Seal Facility—The Ala ES Soc, Inc., Anniston, AL

Contracting Activity: DLA LAND AND MARITIME SUPPLIER, COLUMBUS, OH

NSN(s)—Product Name(s):

6515-01-576-8837—Combat Arms Ear Plug, Single Ended, Size Small, BX/50 Pairs

6515-01-576-8861—Combat Arms Ear Plug, Single Ended, Size Medium, BX/50 Pairs

6515-01-576-8869—Combat Arms Ear Plug, Single Ended, Size Large, BX/50 Pairs

6515-00-SAM-0013—Combat Arms Ear Plug, Single Ended, Size Small, PR

6515-00-SAM-0014—Combat Arms Ear Plug, Single Ended, Size Medium, PR

6515-00-SAM-0015—Combat Arms Ear Plug, Single Ended, Size Large, PR

6515-01-686-9817—Combat Arms 4.1 Ear Plug, Single Ended, Size Small, BX/50

6515-01-686-9808—Combat Arms 4.1 Ear Plug, Single Ended Size Medium, BX/50

6515-01-686-9804—Combat Arms 4.1 Ear Plug, Single Ended Size Large, BX/50

Designated Source of Supply: Access: Supports for Living Inc., Middletown, NY

Contracting Activity: DLA TROOP SUPPORT, PHILADELPHIA, PA

Michael R. Jurkowski,
Acting Director, Business Operations.

[FR Doc. 2024-00021 Filed 1-4-24; 8:45 am]

BILLING CODE 6353-01-P